DEPARTMENT OF HOUSING AND URBAN DEVELOPMENT

[Docket No. FR-5913-N-07]

60-Day Notice of Proposed Information Collection for Public Comment Under the Paperwork Reduction Act—Rental Assistance Demonstration (RAD) Documents

AGENCY: Office of the Assistant Secretary for Housing, HUD.

ACTION: Notice.

SUMMARY: The proposed information collection requirement described below will be submitted to the Office of Management and Budget (OMB) for review, as required by the Paperwork Reduction Act. HUD is soliciting public comments on the subject proposal.

The Rental Assistance Demonstration allows Public Housing, Moderate Rehabilitation (Mod Rehab), Rent Supplement (Rent Supp), and Rental Assistance Payment (RAP) properties to convert to long-term project-based Section 8 rental assistance contracts. The documents that are the subject of this notice are those used to process and complete the conversion process for Public Housing, Mod Rehab, Rent Supp, and RAP properties.

DATES: Comment Due Date: May 16, 2016.

ADDRESSES: Interested persons are invited to submit comments regarding this notice to the Regulations Division, Office of General Counsel, Department of Housing and Urban Development, 451 7th Street SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make public comments immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the notice.

No Facsimile Comments. Facsimile (FAX) comments are not acceptable.

FOR FURTHER INFORMATION CONTACT: Marilyn M. Edge, Senior Advisor, Multifamily Housing Office of Recapitalization, Office of Housing, U.S. Department of Housing and Urban Development, 451 7th Street SW., Washington, DC 20410; telephone 202-708-3730, (this is not a toll-free number). Persons with hearing or speech impairments may access this number via TTY by calling the Federal Relay Service at (800) 877-8339.

SUPPLEMENTARY INFORMATION:

I. Evaluation of Proposed Information Collection

HUD will submit the proposed information collection to OMB for review, as required by the Paperwork Reduction Act of 1995 (44 U.S.C. Chapter 35, as amended). This notice is soliciting comments from members of the public and affected agencies concerning the proposed collection of information on the following:

(1) Whether the proposed collection of information is necessary for the proper performance of the functions of the agency, including whether the information will have practical utility;

(2) The accuracy of the agency's estimate of the burden of the proposed collection of information;

(3) Ways to enhance the quality, utility and clarity of information to be collected; and,

(4) Ways to minimize the burden of the collection of information on those who are to respond, including through the use of appropriate automated collection techniques or other forms of information technology; e.g. permitting electronic submission of responses.

II. Description of Proposed Information Collection

Description of the need for the information and proposed use: RAD allows Public Housing, Mod Rehab, Rent Supp, and RAP properties to convert to long-term project-based Section 8 rental assistance contracts. Participation in the demonstration is voluntary. Participating Public Housing Agencies (PHAs) and Multifamily Owners are required to submit documentation for the purpose of processing and completing the conversion. Through these documents (collectively, the RAD documents), HUD evaluates whether the PHA or owner has met all of the requirements necessary to complete conversion as outlined in PIH Notice 2012-32 Rev 2 Rental Assistance Demonstration—Final Implementation Notice (RAD Notice).

The RAD processing request is made through a Web-based portal. Overall, the RAD documents and information requested through such documents allow HUD to determine which applicants continue to meet the eligibility and conversion requirements Finally, all applicants will be required to sign the appropriate contractual documents to complete conversion and bind both the applicant and HUD, as well as set forth the rights and duties of the applicant and HUD, with respect to the converted project and any payments under that project.

Agency form number(s), if applicable: N/A.

Members of affected public: State, Local or Tribal Government entities, public housing agencies and multifamily owners.

Estimation of the total number of hours needed to prepare the information collection including respondents: The estimated number of respondents is 2,140 annually that have only one response per respondent. The average number for each response to each document in the information collection ranges from 1 hour to 3 hours, for a total burden of 6,640.

Status of the proposed information collection: Renewal of Existing Collection

Authority: Section 3506 of the Paperwork Reduction Act of 1995, 44 U.S.C. Chapter 35, as amended.

The documents that currently comprise the RAD documents can be viewed at the RAD Web site: www.hud.gov/rad/. These documents are those that are currently used for RAD processing.

III. Proposed Changes to RAD Documents

HUD proposes to make the following changes:

1. Inclusion of Fair Housing, Civil Rights and Relocation Requirements in RAD Documents

Consistent with HUD's RAD Implementation Notice, PIH-2012-32 (HA), REV-2 (June 15, 2015), HUD expects that RAD transactions will comply with fair housing, civil rights and relocation requirements. HUD has made some changes to the materials published as part of this PRA Notice to assist all participants in RAD transactions in complying with appropriate fair housing, civil rights and relocation requirements, as well as to provide notice to the public. HUD is currently considering further revisions to the materials published as a part of this PRA Notice (including the FHEO Accessibility and Relocation Plan Checklist, the RAD Financing Plan, the RAD Use Agreement, the RAD Conversion Commitment, and the various Housing Assistance Payments Contracts) to ensure all participants in RAD transactions comply with fair housing, civil rights and relocation requirements. The changes under consideration include the following:

(i) Modifications to the various Housing Assistance Payments contracts to ensure appropriate enumeration of existing fair housing and civil rights requirements and clarification of such requirements;

(ii) Revision and expansion of the FHEO Accessibility and Relocation Plan Checklist to more comprehensively address all federal fair housing and civil rights reviews identified in the RAD Notice (including those derived from the Fair Housing Act, Title VI of the Civil Rights Act of 1964, HUD's Equal Access Rule, and other authorities) and resident relocation compliance issues;

(iii) Revisions to the RAD Conversion Commitment to add certifications and representations to ensure compliance with fair housing and civil rights requirements until and after the RAD closing.

2. Clarification of Davis-Bacon Standards

HUD is reviewing the Davis-Bacon Standards in the RCC and HAP Contracts to determine whether they are sufficiently clear or if further clarification is needed.

HUD encourages all interested persons to submit comments regarding the information collection requirements presented in this proposal.

Dated: March 10, 2016.
Genger Charles,
General Deputy Assistant, Secretary for Housing.

[FR Doc. 2016-05954 Filed 3-16-16; 8:45 am]

BILLING CODE 4210-67-P